DEPARTMENT OF STATE

[Public Notice 5662]

Advisory Committee on Transformational Diplomacy; Notice of Meeting

The Secretary of State's Advisory Committee on Transformational Diplomacy will meet on Wednesday, January 24, 2007, Room 7516 HST, U.S. Department of State, 2201 C Street, NW., Washington, DC. The Committee is composed of prominent Americans from the private sector and academia who provide the Department with advice on its worldwide management operations, including structuring, leading, and managing large global enterprises, communicating governmental missions and policies to relevant publics, and better use of information technology.

The meeting will focus on Private Sector Partnerships, Workforce and Training, State Department 2012/2025, IT Transformation, and Transformational Diplomacy.

This meeting is open to the public from 8 a.m. until 10:30 a.m. as seating capacity allows. The Committee will meet in closed session from 10:30 a.m. until 12 p.m. to receive special briefings including classified information. It has been determined that this portion of the meeting will be closed to the public pursuant to Section 10(d) of the Federal Advisory Committee Act and 5 U.S.C. 552b(c)(1) and 552b(c)(9) (B).

Entry to the building is controlled; to obtain pre-clearance for entry, members of the public (including government employees and Department of State employees) planning to attend should provide by no later than January 16, 2007, their name; place of birth and date of birth; citizenship (country); ID number, i.e., U.S. government ID (agency), U.S. military ID (branch), passport (country), or drivers license number (state); professional affiliation, address, and telephone number to Carlene Roy by fax (202) 647-2524, e-mail (royc@state.gov), or telephone (202) 647-0093. Members of the public also may file a written statement with the committee.

One of the following valid photo IDs will be required for admittance to the State Department building: U.S. driver's license, passport, or U.S. Government agency ID. Members of the public must use the “C” Street entrance, after going through the exterior screening facilities. Due to escorting requirements, attendees should arrive 15 minutes before the meeting begins.

For additional information, contact Madelyn Marchessault, Office of Management Policy, at (202) 647-0093 or at Marchessaultms@state.gov.

Dated: January 4, 2007.
Marguerite Coffey,
Managing Director, Office of Management Policy, Department of State.

[FR Doc. E7-256 Filed 1-10-07; 8:45 am]

BILLING CODE 4710-35-P